DEPARTMENT OF AGRICULTURE

Forest Service

New Mexico Collaborative Forest Restoration Program Technical Advisory Panel

AGENCY: Forest Service, USDA.

ACTION: Notice of meeting.

SUMMARY: The New Mexico Collaborative Forest Restoration Program Technical Advisory Panel will meet in Albuquerque, New Mexico. The Panel is meeting as authorized under the Community Forest Restoration Act (Title VI, Pub. L. 106-393) and in compliance with the Federal Advisory Committee Act. The purpose of the meeting is to provide recommendations to the Regional Forester, USDA Forest Service Southwestern Region, on which applications submitted in response to the Collaborative Forest Restoration Program Request For Applications best meet the program objectives.

DATES: The meeting will be held April 23-27, 2012, beginning at 10 a.m. on Monday, April 23 and ending at approximately 4 p.m. on Friday, April 27.

ADDRESSES: The meeting will be held at the Hyatt Place Albuquerque/Uptown, 6901 Arvada Avenue NE., Albuquerque, NM 87110, (505) 872-9000. Written comments should be sent to Walter Dunn, Cooperative and International Forestry, USDA Forest Service, 333 Broadway SE., Albuquerque, NM 87102. Comments may also be sent via email to wdunn@fs.fed.us, or via facsimile to Walter Dunn at (505) 842-3165.

All comments, including names and addresses when provided, are placed in the record and are available for public inspection and copying. The public may inspect comments received at the Cooperative and International Forestry Staff, USDA Forest Service, 333 Broadway SE., Albuquerque, NM.

FOR FURTHER INFORMATION CONTACT: Walter Dunn, Assistant Designated Federal Official, (505) 842-3425, Cooperative and International Forestry, USDA Forest Service, 333 Broadway SE., Albuquerque, NM 87102.

Individuals who use telecommunication devices for the deaf (TDD) may call the Federal Information Relay Service (FIRS) at 1-800-877-8339 between 8 a.m. and 8 p.m., Eastern Standard Time, Monday through Friday.

SUPPLEMENTARY INFORMATION: The meeting is open to the public. Panel discussion is limited to Panel members and Forest Service staff. Project proponents may respond to questions of clarification from Panel members or Forest Service staff. Persons who wish to bring Collaborative Forest Restoration Program grant application review matters to the attention of the Panel may file written statements with the Panel staff before or after the meeting. Public input sessions will be provided and individuals who submitted written statements prior to the public input sessions will have the opportunity to address the Panel at those sessions.

Dated: March 23, 2012.
Corbin L. Newman, Jr.,
Regional Forester.

[FR Doc. 2012-7529 Filed 3-28-12; 8:45 am]

BILLING CODE 3410-11-P